DEPARTMENT OF THE INTERIOR

[2253-665]

National Park Service

Notice of Intent To Repatriate Cultural Items: U.S. Fish and Wildlife Service, Office of Law Enforcement, Lakewood, CO

AGENCY: National Park Service, Interior.

ACTION: Notice.

SUMMARY: The U.S. Fish and Wildlife Service, Office of Law Enforcement, in consultation with the appropriate Indian tribes, has determined that the cultural items listed below meet the definition of sacred objects and/or objects of cultural patrimony and repatriation to the Indian tribes stated below may occur if no additional claimants come forward. Representatives of any Indian tribe that believes itself to be culturally affiliated with the cultural items may contact the U.S. Fish and Wildlife Service, Office of Law Enforcement.

DATES: Representatives of any Indian tribe that believes it has a cultural affiliation with the cultural items should contact the U.S. Fish and Wildlife Service, Office of Law Enforcement, at the address below by April 6, 2012.

ADDRESSES: Special Agent in Charge, U.S. Fish and Wildlife Service, Office of Law Enforcement, 134 Union Blvd., Room 550, Lakewood, CO 80228, telephone (303) 236-7540.

SUPPLEMENTARY INFORMATION: Notice is here given in accordance with the Native American Graves Protection and Repatriation Act (NAGPRA), 25 U.S.C. 3005, of the intent to repatriate eight cultural items in the possession of the U.S. Fish and Wildlife Service, Office of Law Enforcement, that meet the definition of sacred objects and/or objects of cultural patrimony under 25 U.S.C. 3001.

This notice is published as part of the National Park Service's administrative responsibilities under NAGPRA, 25 U.S.C. 3003(d)(3). The determinations in this notice are the sole responsibility of the U.S. Fish and Wildlife Service, Office of Law Enforcement. The National Park Service is not responsible for the determinations in this notice.

History and Description of the Cultural Items

These items came into the possession and control of the U.S. Fish and Wildlife Service (USFWS), Office of Law Enforcement, pursuant to a criminal investigation. The items were forfeited to the U.S. Government by the U.S. Customs Service in separate forfeiture actions in January, February and March 2001. These items were transferred to the USFWS on August 21, 2001, and the Federal criminal investigations are now complete.

USFWS contracted with expert consultants to review the collection and consulted with 11 tribes having interest or affiliation in the objects. Three tribes filed claims requesting repatriation of objects from the collection. Upon review, the USFWS determined that three objects of cultural patrimony and five sacred objects are subject to repatriation to the Assiniboine and Sioux Tribes of the Fort Peck Indian Reservation, Montana. The five sacred objects include Items 42 and 43: two rattles, Item 26: Imosna, deer dew claws (Bandoleer), and Items 5 and 70: two splithorn headdresses, one with a trailer. The three objects of cultural patrimony include Item 11: notched warrior's dance whip or wand, Item 18: Napeshi spear or dance spear, and Item 41: notched warrior's dance whip or quirt. Items 5 and 70 (splithorn headdresses) are both sacred objects and objects of cultural patrimony.

Determinations Made by the U.S. Fish and Wildlife Service, Office of Law Enforcement

Based on the above-mentioned information, officials of the USFWS have determined that:

• Pursuant to 25 U.S.C. 3001(3)(C), three of the cultural items described above are specific ceremonial objects needed by traditional Native American religious leaders for the practice of traditional Native American religions by their present-day adherents.

• Pursuant to 25 U.S.C. 3001(3)(D), three of the cultural items described above have ongoing historical, traditional, or cultural importance central to the Native American group or culture itself, rather than property owned by an individual.

• Pursuant to 25 U.S.C. 3001(3)(C) and 25 U.S.C. 3001(3)(D), two of the cultural items described above are specific ceremonial objects needed by traditional Native American religious leaders for the practice of traditional Native American religions by their present-day adherents, and have ongoing historical, traditional, or cultural importance central to the Native American group or culture itself, rather than property owned by an individual.

• Pursuant to 25 U.S.C. 3001(2), there is a relationship of shared group identity that can be reasonably traced between eight cultural objects and the Assiniboine and Sioux Tribes of the Fort Peck Indian Reservation, Montana.

Additional Requestors and Disposition

Representatives of any other Indian tribe that believes itself to be culturally affiliated with these sacred objects and/or objects of cultural patrimony should contact the Special Agent in Charge, U.S. Fish and Wildlife Service, Office of Law Enforcement, 134 Union Blvd., Room 550, Lakewood, CO 80228, telephone (303) 236-7540, April 6, 2012. Repatriation of the sacred objects and/or objects of cultural patrimony to the Assiniboine and Sioux Tribes of the Fort Peck Indian Reservation, Montana may proceed after that date if no additional claimants come forward.

The U.S. Fish and Wildlife Service, Office of Law Enforcement, Lakewood, CO, is responsible for notifying the Assiniboine and Sioux Tribes of the Fort Peck Indian Reservation, Montana that this notice has been published.

Dated: March 2, 2012.
Sherry Hutt,
Manager, National NAGPRA Program.

[FR Doc. 2012-5570 Filed 3-6-12; 8:45 am]

BILLING CODE 4312-50-P